DEPARTMENT OF DEFENSE

Office of the Secretary

Membership of the Performance Review Board

AGENCY: Office of the Secretary of Defense (OSD), DoD.

ACTION: Notice of board membership.

SUMMARY: This notice announces the appointment of the Department of Defense, Fourth Estate, Performance Review Board (PRB) members, to include the Joint Staff, Defense Field Activities, the U.S. Court of Appeals for the Armed Forces and the following Defense Agencies: Defense Advance Research Projects Agency, Defense Commissary Agency, Defense Contract Audit Agency, Defense Contract Management Agency, Defense Finance And Accounting Service, Defense Information Systems Agency, Defense Legal Services Agency, Defense Logistics Agency, Defense Security Cooperation Agency, Defense Threat Reduction Agency, Missile Defense Agency, and Pentagon Force Protection Agency. The publication of PRB membership is required by 5 U.S.C. 4314(c)(4).

The PRB shall provide fair and impartial review of Senior Executive Service and Senior Professional performance appraisals and make recommendations regarding performance ratings and performance awards to the Deputy Secretary of Defense.

DATES: Effective Date: August 2, 2012.

FOR FURTHER INFORMATION CONTACT: Michael L. Watson, Assistant Director for Executive and Political Personnel, Washington Headquarters Services, Office of the Secretary of Defense, (703) 693-8373.

SUPPLEMENTARY INFORMATION: In accordance with 5 U.S.C. 4314(c)(4), the following executives are appointed to the Office of the Secretary of Defense PRB with specific PRB panel assignments being made from this group. Executives listed will serve a one-year renewable term, effective August 2, 2012.

Office of the Secretary of Defense,

Chairperson,

Alan Shaffer.

PRB Panel Members
Anthony Aldwell
Linda Allen
Gretchen Anderson
Timothy Baker
David Bennett
Pamela Conklin
Kathy Cutler
Laura Desimone
Shari Durand
Audrey Eckhart
Webster Ewell
John Hastings
Paul Hulley
John James, Jr.
Clarence Johnson
Kevin Kelly
Paul Koffsky
Paul Kozemchak
Roberta Lowe
Nathan Maenle
Richard Mccormick
Elizabeth Mcgrath
Teresa Mckay
Donald Mckenzie
Allen Middleton
Robert Newberry
Patrick O'brien
Thomas Peters
Ronald Pontius
Angela Rogers
James Russell
Dennis Savage
Richard Sayre
Steven Schleien
Donna Seymour
David Wennergren
Joseph-Paul Wilusz

Dated: August 10, 2012.
Aaron Siegel,
Alternate OSD Federal Register Liaison Officer, Department of Defense.

[FR Doc. 2012-20153 Filed 8-15-12; 8:45 am]

BILLING CODE 5001-06-P